DEPARTMENT OF JUSTICE

Notice of Lodging of Consent Decree Under the Comprehensive Environmental Response, Compensation, and Liability Act (“CERCLA”)

Notice is hereby given that on December 11, 2009 a proposed Consent Decree in United States v. United Technologies Corporation, Civil Action No. 2:09-cv-2801-BBD-cgc, was lodged with the United States District Court for the Western District of Tennessee, Memphis Division.

In this action the United States sought judgment against defendant in favor of the United States for all previously un-reimbursed costs incurred by the United States in response to the release or threatened release of hazardous substances at Sixty One Industrial Park Superfund Site (the “Site”) located at 5607 Highway 61 South in Memphis, Shelby County, Tennessee. Under the terms of the Consent Decree, United Technologies Corporation will undertake the remedial action selected by the United States Environmental Protection Agency for the Site. Further, the terms of the Consent Decree require United Technologies Corporation to reimburse the United States for past costs, all future oversight costs, plus interest, incurred or to be incurred in the future by the government in connection with the remedial action at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. United Technologies Corporation, D.J. Ref. 90-11-2-09486.

The Consent Decree may be examined at the Office of the United States Attorney, Western District of Tennessee, 167 North Main Street, Suite 800, Memphis, TN 38103, and at U.S. EPA Region 4, 61 Forsyth Street, SW., Atlanta, Georgia 30303. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 12.50 (25 cents per page reproduction cost)for a copy of the Consent Decree without appendices, or $43.00 (25 cents per page reproduction cost) for a copy of the Consent Decree including appendices, payable to the U.S. Treasury or, if by e-mail or fax, forward a check in that amount to the Consent Decree Library at the stated address.

Maureen Katz,
Assistant Chief, Environmental Enforcement Section, Environment and Natural Resources Division.

[FR Doc. E9-30445 Filed 12-22-09; 8:45 am]

BILLING CODE 4410-15-P